DEPARTMENT OF AGRICULTURE

Animal and Plant Health Inspection Service

[Docket No. APHIS-2007-0102]

Notice of Decision To Issue Permits for the Importation of Eggplant and Okra From Ghana Into All Areas of the United States and the Importation of Peppers From Ghana Into the Continental United States

AGENCY: Animal and Plant Health Inspection Service, USDA.

ACTION: Notice.

SUMMARY: We are advising the public of our decision to begin issuing permits for the importation of eggplant and okra from Ghana into all areas of the United States and the importation of peppers from Ghana into the continental United States. Based on the findings of a pest risk analysis, which we made available to the public for review and comment through a previous notice, we believe that the application of one or more designated phytosanitary measures will be sufficient to mitigate the risks of introducing or disseminating plant pests or noxious weeds via the importation of eggplant, okra, and peppers from Ghana.

DATES: Effective Date: October 19, 2007.

FOR FURTHER INFORMATION CONTACT: Ms. Sharon Porsche, Import Specialist, Commodity Import Analysis and Operations, Plant Health Programs, PPQ, APHIS, 4700 River Road Unit 133, Riverdale, MD 20737-1231; (301) 734-8758.

SUPPLEMENTARY INFORMATION: Under the regulations in “Subpart—Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on July 18, 2007 (72 FR 39379-39380, Docket No. APHIS-2007-0102), in which we announced the availability, for review and comment, of a pest risk analysis that evaluates the risks associated with the importation of eggplant and okra from Ghana into all areas of the United States and the importation of peppers from Ghana into the continental United States. We solicited comments on the notice for 60 days ending on September 17, 2007. We did not receive any comments.

¹ To view the notice and the pest risk analysis, go to http://www.regulations.gov/fdmspublic/component/main?main=DocketDetail&d=APHIS-2007-0102.

Therefore, in accordance with the regulations in § 319.56-4(c)(2)(ii), we are announcing our decision to begin issuing permits for the importation of eggplant and okra from Ghana into all areas of the United States and the importation of peppers from Ghana into the continental United States subject to the following phytosanitary measures:

• The eggplant, okra, and peppers must be treated, in Ghana, with irradiation using a minimum absorbed dose of 400 Gy and subject to other requirements of 7CFR part 305.

• Each consignment of eggplant, okra, and peppers must be accompanied by a phytosanitary certificate issued by Ghana's national plant protection organization stating that the consignment received irradiation treatment with 400 Gy as the minimum absorbed dose. In the case of eggplant, the phytosanitary certificate must also include an additional declaration that reads “The fruit in this consignment was inspected and found free of Eutetranychus orientalis.”

• The eggplant, okra, and peppers may be imported in commercial consignments only.

• The eggplant, okra, and peppers will be subject to standard port-of-entry inspection upon arrival in the United States and must be free of quarantine pests.

These conditions will be listed in the fruits and vegetables manual (available at http://www.aphis.usda.gov/import_export/plants/manuals/ports/downloads/fv.pdf). In addition to those specific measures, the eggplant, okra, and peppers will be subject to the general requirements listed in § 319.56-3 that are applicable to the importation of all fruits and vegetables.

Done in Washington, DC, this 15th day of October 2007.
Kevin Shea,
Acting Administrator, Animal and Plant Health Inspection Service.

[FR Doc. E7-20674 Filed 10-18-07; 8:45 am]

BILLING CODE 3410-34-P